SECURITIES AND EXCHANGE COMMISSION

17 CFR Parts 200, 230, 232, 239, 240, 270, and 274

[Release Nos. 33-10765; 34-88358; IC-33814; File No. S7-23-18]

RIN 3235-AK60

Updated Disclosure Requirements and Summary Prospectus for Variable Annuity and Variable Life Insurance Contracts

Correction

In rule document 2020-05526 in the issue of Friday, May 1, 2020, make the following corrections:

1. On page 26058, in the first column, footnote 1056 should read “¹⁰⁵⁶ The Commission recently adopted rules requiring registrants to include a hyperlink to each exhibit identified in the exhibit index in any registration statement or report that is required to include exhibits under 17 CFR 229.601 (Item 601 of Regulation S-K) or under Form F-10 or Form 20- F. In connection with this rulemaking, commenters indicated that hyperlinking would make it easier and reduce the amount of time required for investors to navigate to related documents. See Exhibit Hyperlinks and HTML Format, Release No. 34-80132 (Mar. 1, 2017) [82 FR 14130 (Mar. 17, 2017)] at nn.85 and 86. In 2019, the Commission adopted amendments to its investment company registration forms, including Forms N-3, N-4, and N-6, to require hyperlinks to exhibits required to be filed with the registration statement. See FAST Act Adopting Release, supra note 501.

2. The table entitled “Rule 498a PRA Estimates” appearing on pages 26087-26089, should appear as follows:

BILLING CODE 1301-00-D

¹ The Proposing Release included an aggregate estimate of 17,359 hours, which reflected a mathematical error. The table includes the corrected calculation based on the estimates in the Proposing Release.

² The Proposing Release included an aggregate estimated time cost equivalent of $5,565,971, which reflected a mathematical error relating to the estimated total annual burden hours. The table includes the corrected calculation based on the estimates in the Proposing Release.

[FR Doc. C1-2020-05526 Filed 5-12-20; 8:45 am]

BILLING CODE 1301-00-C